ENVIRONMENTAL PROTECTION AGENCY

[FRL-7062-3]

Good Neighbor Environmental Board Meeting

AGENCY: Environmental Protection Agency (EPA).

ACTION: Notice of meeting.

SUMMARY: The next meeting of the Good Neighbor Environmental Board, a federal advisory committee that reports to the President and Congress on environmental and infrastructure projects along the U.S. border with Mexico, will take place in Laredo, Texas, on October 10-11, 2001. It is open to the public.

DATES: On October 10, the meeting will begin at 8:30 a.m. and end at 5:30 p.m. On October 11, it will begin at 8 a.m. and end by 5 p.m.

ADDRESSES: The meeting site will be La Posada Hotel, 1000 Zaragoza St., Laredo, Texas. For directions to the site, call (956) 722-1701.

FOR FURTHER INFORMATION CONTACT: Elaine M. Koerner, Designated Federal Officer for the Good Neighbor Environmental Board, Office of Cooperative Environmental Management, Office of the Administrator, USEPA, MC1601A, 1200 Pennsylvania Ave, NW, Washington, DC 20004, (202) 564-1484, koerner.elaine@epa.gov.

SUPPLEMENTARY INFORMATION:

Agenda: On October 10, guest speakers from the government, private sector, and public sectors will address two topics as they relate to the U.S.-Mexico border region: rural issues and transportation issues. At 3:15 p.m. that afternoon, there will be a public comment session. During this session, attendees will be encouraged to speak briefly about their own concerns and priorities for their communities as well as the wider border region. Afterwards, Board members will report out on developments taking place within their organizations and networks. The first day of the meeting will end at 5:30 p.m.

On the morning of October 11, the Board will hold a business meeting, which will end at noon. Following lunch, the Board will meet with representatives from a Mexican counterpart advisory group. This discussion will end by 5 p.m., when the meeting will close.

Public Attendance: The public is welcome to attend all portions of the meeting. Members of the public who plan to file written statements and/or make brief (suggested 5-minute limit) oral statements at the public comment session on the afternoon of October 10 are encouraged to contact the Designated Federal Officer for the Board prior to the meeting.

Background: The Good Neighbor Environmental Board meets three times each calendar year at different locations along the U.S.-Mexico border. It was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Public Law 92-463).

Elaine M. Koerner,
Designated Federal Officer.

[FR Doc. 01-23603 Filed 9-20-01; 8:45 am]

BILLING CODE 6560-50-P